DEPARTMENT OF AGRICULTURE

Agricultural Marketing Service

7 CFR Part 1220

[Docket No. LS-06-06]

Soybean Promotion and Research: Qualified State Soybean Boards; Correction

AGENCY: Agricultural Marketing Service, USDA.

ACTION: Correcting amendment.

SUMMARY: The Agricultural Marketing Service (AMS) published a final rule and termination order (final rule) in the Federal Register on November 28, 1995 (60 FR 58499) regarding technical amendments to the Soybean Promotion, Research and Consumer Information Order (Order). AMS has found that section 1220.228(a)(1)(v)(A) pertaining to producer refunds, was mistakenly removed from the Order as part of the final rule. This document corrects the Order by adding the language that previously appeared in section 1220.228(a)(1)(v)(A).

DATES: Effective Date: January 23, 2007.

FOR FURTHER INFORMATION CONTACT: Kenneth R. Payne, Chief, Marketing Programs Branch, 202/720-1115 or via e-mail at Kenneth.Payne@usda.gov.

SUPPLEMENTARY INFORMATION: This document provides a correcting amendment to the Soybean Promotion, Research, and Consumer Information Order that appears at 7 CFR part 1220.

List of Subjects in 7 CFR 1220

Administrative practice and procedure, Advertising, Agricultural research, Marketing agreements, Soybeans and soybean products, Reporting and recordkeeping requirements.

Accordingly, 7 CFR part 1220 is corrected by making the following amendment:

PART 1220—SOYBEAN PROMOTION, RESEARCH, AND CONSUMER INFORMATION

1. The authority citation for 7 CFR part 1220 continues to read as follows:

Authority: 7 U.S.C. 6301-6311.

2. Amend § 1220.228 by adding paragraph (a)(1)(v) to read as follows:

§ 1220.228 Qualified State Soybean Boards.

(a)(1) * * *

(v) If the entity is authorized or required to pay refunds to producers, any requests from producers for refunds for contributions to it by the producer following the termination of authority to pay refunds, will be honored by forwarding to the Board that portion of such refunds equal to the amount of credit received by the producer for contributions to it pursuant to § 1220.223(a)(3);

* * * * *

Dated: January 17, 2007.
Lloyd C. Day,
Administrator, Agricultural Marketing Service.

[FR Doc. E7-875 Filed 1-22-07; 8:45 am]

BILLING CODE 3410-02-P